DEPARTMENT OF THE INTERIOR

National Park Service

[NPS-WASO-NAGPRA-NPS0037758; PPWOCRADN0-PCU00RP14.R50000]

Notice of Intended Repatriation: David A. Fredrickson Archaeological Collections Facility at Sonoma State University, Rohnert Park, CA

AGENCY: National Park Service, Interior.

ACTION: Notice.

SUMMARY: In accordance with the Native American Graves Protection and Repatriation Act (NAGPRA), Sonoma State University intends to repatriate certain cultural items that meet the definition of objects of cultural patrimony and that have a cultural affiliation with the Indian Tribes or Native Hawaiian organizations in this notice.

DATES: Repatriation of the cultural items in this notice may occur on or after May 16, 2024.

ADDRESSES: Doshia Dodd, Sonoma State University, 1801 East Cotati Avenue, Rohnert Park, CA 94928, telephone (530) 514-8472, email Doshia.dodd@sonoma.edu.

SUPPLEMENTARY INFORMATION: This notice is published as part of the National Park Service's administrative responsibilities under NAGPRA. The determinations in this notice are the sole responsibility of Sonoma State University, and additional information on the determinations in this notice, including the results of consultation, can be found in the summary or related records. The National Park Service is not responsible for the determinations in this notice.

Abstract of Information Available

A total of three lots of cultural items have been requested for repatriation. The three lots of objects of cultural patrimony each include flaked stone tools and debitage; dietary bone remains; groundstone objects; late 19th—early 20th century glass, ceramic and metal items; and soil samples. Based on records concerning the cultural items and the institution in which they were housed, there is no evidence of the three lots of cultural items being treated with hazardous substances.

One lot of cultural items was removed from archaeological site CA-SAC-436 in Sacramento County, CA. The items were removed in 1994 during archaeological work carried out by Stewart/Gerike Consultants related to an excavation at the Rancho Seco Park, and were curated at Sonoma State University after completion of the project. The cultural items have remained in possession of Sonoma State since their curation, under the Accession Number 94-12.

Two lots of cultural items were removed from archaeological sites P-34-002166 and P-34-004714 in Sacramento County, CA. The items were removed in 2014 during archaeological work carried out by ECORP Consulting, Inc. related to an infrastructure support project for the Folsom South of U.S. Highway 50 Specific Plan Project, and were curated at Sonoma State University after completion of the project. The cultural items have remained in possession of Sonoma State since their curation, under the Accession Numbers 2015-20 (for P-34-002166) and 2015-22 (P-34-004714).

Determinations

Sonoma State University has determined that:

• The three lots of objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Buena Vista Rancheria of Me-Wuk Indians of California; Chicken Ranch Rancheria of Me-wuk Indians of California; Guidiville Rancheria of California; Ione Band of Miwok Indians of California; Shingle Springs Band of Miwok Indians, Shingle Springs Rancheria (Verona Tract), California; Tule River Indian Tribe of the Tule River Reservation, California; United Auburn Indian Community of the Auburn Rancheria of California; Wilton Rancheria, California; and the Yocha Dehe Wintun Nation, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 16, 2024. If competing requests for repatriation are received, Sonoma State University must determine the most appropriate requestor prior to repatriation. Requests for joint repatriation of the cultural items are considered a single request and not competing requests. Sonoma State University is responsible for sending a copy of this notice to the Indian Tribes and Native Hawaiian organizations identified in this notice and to any other consulting parties.

Authority: Native American Graves Protection and Repatriation Act, 25 U.S.C. 3004 and the implementing regulations, 43 CFR 10.9.

Dated: April 9, 2024
Melanie O'Brien,
Manager, National NAGPRA Program.

[FR Doc. 2024-08054 Filed 4-15-24; 8:45 am]

BILLING CODE 4312-52-P